NUCLEAR REGULATORY COMMISSION

Regulatory Guide and Associated Standard Review Plan; Issuance, Availability

The Nuclear Regulatory Commission (NRC) has issued for public comment a revision of a regulatory guide (and its associated Standard Review Plan). Regulatory Guides are developed to describe and make available to the public such information as methods acceptable to the NRC staff for implementing specific parts of the NRC's regulations, techniques used by the staff in its review of applications for permits and licenses, and data needed by NRC staff in its review of applications for permits and licenses.

Regulatory Guide 1.200, Revision 1, “An approach for Determining the Technical Adequacy of Probabilistic Risk Assessment Results for Risk-Informed Activities,” provides guidance to licensees in determining the technical adequacy of a probabilistic risk analysis used in a risk-informed, integrated decision-making process, and to endorse standards and industry guidance. Guidance is provided in four areas:

(1) A minimal set of functional requirements of a technically acceptable PRA.

(2) NRC position on consensus PRA standards and industry PRA program documents.

(3) Demonstration that the PRA (in toto or specific parts) used in regulatory applications is of sufficient technical adequacy.

(4) Documentation that the PRA (in toto or specific parts) used in regulatory applications is of sufficient technical adequacy.

RG 1.200, Revision 1, proposes to endorse, with certain clarifications and substitutions, ASME Standard, “Standard for Probabilistic Risk Assessment for Nuclear Power Plant Applications” (RA-S-2002, RA-Sa-2003 and RA-Sb-2005, dated April 5, 2002, December 5, 2003, and December 30, 2005, respectively), Revision A3 of NEI-00-02, “Probabilistic Risk (PRA) Peer Review Process Guidance,” with its August 16, 2002 and May 19, 2006 supplemental guidance on industry self-assessment, and NEI-05-04, “Process for Performing Follow-on PRA Peer Reviews Using the ASME PRA Standard,” January 2005.

Standard Review Plan Chapter 19.1, Revision 1, “Determining the Technical Adequacy of Probabilistic Risk and Assessment Results for Risk-Informed Activities,” has been developed for the NRC staff to use in conjunction with Regulatory Guide 1.200, Revision 1.

It is the NRC's intent to update this RG when a new or revised PRA standard or industry program is published. If a new standard or program is published, an additional appendix will be added to set forth the staff position. If a revision of a current standard or program would impact the staff position, the appropriate appendix would be revised.

The NRC staff is soliciting comments on these proposed documents. Comments may be accompanied by relevant information or supporting data. Written comments may be submitted to the Rules and Directives Branch, Office of Administration, U.S. Nuclear Regulatory Commission, Washington, DC 20555. Copies of comments received may be examined at the NRC Public Document Room, 11555 Rockville Pike, Rockville, MD. Comments will be most helpful if received by September 15, 2006.

Comments received after this date will be considered if it is practical to do so, but the NRC is able to ensure consideration only for comments received on or before this date.

You may also provide comments via the NRC's interactive rulemaking Web site through the NRC home page (http://www.nrc.gov). This site provides the ability to upload comments as files (any format) if your web browser supports that function. For information about the interactive rulemaking Web site, contact Ms. Carol Gallagher, (301) 415-5905; e-mail CAG@NRC.GOV. For information about the draft guide and the related standard review plan chapter, contact Ms. M.T. Drouin at (301)415-6675; e-mail MXD@NRC.GOV.

Although a time limit is given for comments on this draft guide, comments and suggestions in connection with items for inclusion in guides currently being developed or improvements in all published guides are encouraged at any time.

Electronic copies of this draft RG are available on the NRC's Web site http://www.nrc.gov in the Reference Library under Regulatory Guides. Electronic copies are also available in NRC's Public Electronic Reading Room at the same Web site; DG-1122 is under ADAMS Accession Number ML062150231. Regulatory guides are available for inspection at the NRC's Public Document Room, 11555 Rockville Pike, Rockville, MD; the PDR's mailing address is USNRC PDR, Washington, DC 20555; telephone (301) 415-4737 or (800) 397-4205; fax (301) 415-3548; e-mail PDR@NRC.GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301) 415-2289. Telephone requests cannot be accommodated. Regulatory guides are not copyrighted, and Commission approval is not required to reproduce them. (5 U.S.C. 552(a)).

Dated at Rockville, MD this 3rd day of August 2006.
For the Nuclear Regulatory Commission.
Farouk Eltawila,
Director, Division of Risk Assessment and Special Projects, Office of Nuclear Regulatory Research.

[FR Doc. E6-13115 Filed 8-9-06; 8:45 am]

BILLING CODE 7590-01-P